DEPARTMENT OF THE INTERIOR

National Park Service

[NPS-WASO-NAGPRA-NPS0025284: PPWOCRADN0-PCU00RP14.R50000]

Notice of Intent To Repatriate Cultural Items: New York State Museum, Albany, NY

AGENCY: National Park Service, Interior.

ACTION: Notice.

SUMMARY: The New York State Museum, in consultation with the appropriate Indian Tribes or Native Hawaiian organizations, has determined that the cultural items listed in this notice meet the definition of unassociated funerary objects. Lineal descendants or representatives of any Indian tribe or Native Hawaiian organization not identified in this notice that wish to claim these cultural items should submit a written request to the New York State Museum. If no additional claimants come forward, transfer of control of the cultural items to the lineal descendants, Indian Tribes, or Native Hawaiian organizations stated in this notice may proceed.

DATES: Lineal descendants or representatives of any Indian tribe or Native Hawaiian organization not identified in this notice that wish to claim these cultural items should submit a written request with information in support of the claim to the New York State Museum at the address in this notice by May 14, 2018.

ADDRESSES: Lisa Anderson, New York State Museum, 3049 Cultural Education Center, Albany, NY 12230, telephone (518) 486-2020, lisa.anderson@nysed.gov.

SUPPLEMENTARY INFORMATION: Notice is here given in accordance with the Native American Graves Protection and Repatriation Act (NAGPRA), 25 U.S.C. 3005, of the intent to repatriate cultural items under the control of the New York State Museum, Albany, NY, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In the late nineteenth century, three cultural items were removed from the Brewerton cemetery site in Onondaga County, NY. They were part a larger collection purchased by the museum from Otis M. Bigelow in 1914. The unassociated funerary objects are 3 pottery smoking pipes, including one with a side-facing bear effigy on the bowl (#31868), one with a ringed collar bowl (#31908), and one with a self-directed eagle effigy on the bowl (#31909). The pipes were illustrated by Rev. William M. Beauchamp in the late 19th century and described as being from a Native American grave. Based on the style of the pipes and other items reportedly found in the burial, and which are not in the museum's possession, the cultural items probably date to the mid- to late-seventeenth century.

In the late nineteenth century, four cultural items were removed from a site in the town of Pompey in Onondaga County, NY. The unassociated funerary objects are 2 rolled sheet brass tinklers, 1 brass wire hoop, and 1 black glass button (#50096). The cultural items were part of a larger collection belonging to Rev. William M. Beauchamp and purchased by the museum in 1949 from his daughter, Mrs. Grace B. Lodder. Beauchamp identified the cultural items as from a grave in Pompey. Beauchamp described the Pompey area as the early home of the Onondaga, where numerous village sites date from the late pre-contact period through the seventeenth century. Traded by the Dutch, similar glass buttons have been found on early historic Onondaga sites, and probably date to the 17th century.

In 1908, 506 cultural items were removed from a site near Dorwin Springs, Onondaga Valley, in Onondaga County, NY. The 506 unassociated funerary objects are a string of 26 shell beads and 480 white glass seed beads (#50097). The cultural items were part of a larger collection belonging to Rev. William M. Beauchamp and purchased by the museum in 1949 from his daughter, Mrs. Grace B. Lodder. Beauchamp identified the burial as Native American and suggested the glass beads may have been part of a belt. He estimated the site dated to about A.D. 1750, a date consistent with the type of beads and other items reportedly found in the burial, and which are not in the museum's possession.

Determinations Made by the New York State Museum

Officials of the New York State Museum have determined that:

• Pursuant to 25 U.S.C. 3001(3)(B), the 513 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Onondaga Nation.

Additional Requestors and Disposition

Lineal descendants or representatives of any Indian tribe or Native Hawaiian organization not identified in this notice that wish to claim these cultural items should submit a written request with information in support of the claim to Lisa Anderson, New York State Museum, 3049 Cultural Education Center, Albany, NY 12230, telephone (518) 486-2020, email lisa.anderson@nysed.gov, by May 14, 2018. After that date, if no additional claimants have come forward, transfer of control of the unassociated funerary objects to the Onondaga Nation may proceed.

The New York State Museum is responsible for notifying the Onondaga Nation that this notice has been published.

Dated: March 22, 2018
Melanie O'Brien,
Manager, National NAGPRA Program.

[FR Doc. 2018-07701 Filed 4-12-18; 8:45 am]

BILLING CODE 4312-52-P